SMALL BUSINESS ADMINISTRATION

Senior Executive Service: Performance Review Board Members

AGENCY: U. S. Small Business Administration.

ACTION: Notice of Members for the FY 2014 Performance Review Board.

SUMMARY: Title 5 U.S.C. 4314(c)(4) requires each agency to publish notification of the appointment of individuals who may serve as members of that Agency's Performance Review Board (PRB). The following individuals have been designated to serve on the FY 2014 Performance Review Board for the U.S. Small Business Administration.

1. Robert Hill, (Chair), Associate Administrator for Field Operations

2. Michele Chang, Deputy Chief of Staff

3. Paul Christy, Chief Operating Officer

4. Nicholas Coutsos, Assistant Administrator, Congressional and Legislative Affairs

5. John Klein, Assistant General Counsel for Procurement

6. John Miller, Director, Financial Program Operations, Office of Capital Access

7. Judith Roussel, Director of Government Contracting

Karen G. Mills,
Administrator.

[FR Doc. 2013-20859 Filed 8-26-13; 8:45 am]

BILLING CODE P